DEPARTMENT OF TRANSPORTATION

Federal Aviation Administration

Notice of Intent To Rule on Application 01-03-C-00-PIH To Impose and Use the Revenue From a Passenger Facility Charge (PFC) at Pocatello Regional Airport, Submitted by the City of Pocatello, Pocatello Regional Airport, Pocatello, ID

AGENCY: Federal Aviation Administration (FAA), DOT.

ACTION: Notice of intent to rule on application.

SUMMARY: The FAA proposes to rule and invites public comment on the application to impose and use PFC revenue at Pocatello Regional Airport under the provisions of 49 U.S.C. 40117 and Part 158 of the Federal Aviation Regulations (14 CFR 158).

DATES: Comments must be received on or before May 18, 2001.

ADDRESSES: Comments on this application may be mailed or delivered in triplicate to the FAA at the following address: Mr. J. Wade Bryant, Manager; Seattle Airports District Office, SEA-ADO; Federal Aviation Administration; 1601 Lind Avenue SW., Suite 250, Renton, Washington 98055-4056.

In addition, one copy of any comments submitted to the FAA must be mailed or delivered to Mr. Len Nelson, Airport Manager, at the following address: P.O. Box 4169, Pocatello, ID 83205.

Air Carriers and foreign air carriers may submit copies of written comments previously provided to Pocatello Regional Airport, under section 158.23 of Part 158.

FOR FURTHER INFORMATION CONTACT: Ms. Suzanne Lee-Pang, (425) 227-2654, Seattle Airports District Office, SEA-ADO; Federal Aviation Administration; 1601 Lind Avenue SW., Suite 250, Renton, Washington 98055-4056. The application may be reviewed in person at this same location.

SUPPLEMENTARY INFORMATION: The FAA proposes to rule and invites public comment on the application 01-03-C-00-PIH to impose and use PFC revenue at Pocatello Regional Airport, under the provisions of 49 U.S.C. 40117 and Part 158 of the Federal Aviation Regulations (14 CFR Part 158).

On April 5, 2001, the FAA determined that the application to impose and use the revenue from a PFC submitted by City of Pocatello, Pocatello Regional Airport, Pocatello, Idaho was substantially complete within the requirements of section 158.25 of Part 158. The FAA will approve or disapprove the application, in whole or in part, no later than July 5, 2001.

The following is a brief overview of the application.

Level of the proposed PFC: $4.50.

Proposed charge effective date: September 1, 2001.

Proposed charge expiration date: January 1, 2005.

Total requested for use approval: $549,967.

Brief description of proposed project: Security Fencing and Automated Security Gates; Snow Removal Equipment Procurement; Rehabilitation of Apron; Airport Signing Project; Terminal Apron Rehabilitation; Aircraft Rescue and Fire Fighting Vehicle; Master Plan; Procurement of Snow Removal Equipment; Main Entrance Road Rehabilitation; Installation of Precision Approach Path Indicators and Runway End Indicator Lights; Apron Rehabilitation; Snow Equipment Storage/Maintenance Building.

Class or classes of air carriers, which the public agency has requested not be required to collect PFC's: Nonscheduled air taxi/commercial operators, utilizing aircraft having a seating capacity of less than 20 passengers.

Any person may inspect the application in person at the FAA office listed above under FOR FURTHER INFORMATION CONTACT and at the FAA Regional Airports Office located at: Federal Aviation Administration, Northwest Mountain Region, Airports Division, ANM-600, 1601 Lind Avenue SW., Suite 315, Renton, VA 98055-4056.

In addition, any person may, upon request, inspect the application, notice and other documents germane to the application in person at the Pocatello Regional Airport.

Issued in Renton, Washington on April 5, 2001.
David A. Field,
Manager, Planning, Programming and Capacity Branch, Northwest Mountain Region.

[FR Doc. 01-9533 Filed 4-17-01; 8:45 am]

BILLING CODE 4910-13-M